INTERNATIONAL TRADE COMMISSION

[Inv. No. 337-TA-498]

Certain Insect Traps; Notice of Decision Not To Review an Initial Determination Granting a Motion To Amend the Complaint and Notice of Investigation To Add Four Respondents

AGENCY: International Trade Commission.

ACTION: Notice.

SUMMARY: Notice is hereby given that the U.S. International Trade Commission has determined not to review an initial determination (ID) issued by the presiding administrative law judge (ALJ) in the above-captioned investigation amending the complaint and notice of investigation to add four entities as respondents in the investigation.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on September 12, 2003, based on a complaint filed by American Biophysics Corp. (“ABC”) of North Kingstown, Rhode Island. 68 FR 24755. The complaint, as supplemented, alleged violations of section 337 of the Tariff Act of 1930 in the importation into the United States, sale for importation, and/or sale within the United States after importation of certain insect traps that infringe the claims of ABC's U.S. Patents No. 6,286,249 and No. 6,145,243. The notice of investigation identified one respondent, Blue Rhino Corp. (“BRC”) of Winston-Salem, North Carolina.

On November 10, 2003, ABC filed a motion to amend its complaint to add the following four entities as respondents in the investigation: Blue Rhino Consumer Products (“BRCP”), LLC of Winston-Salem, North Carolina; Blue Rhino Global Sourcing, LLC (“BRGS”), of Winston-Salem, North Carolina; Guangdong Dong Fang Imp. & Exp. Corp. of Shenzhen, China; and Lentek International, Inc. of Kissimmee, Florida. The Commission investigative attorney supported the motion. Existing respondent BRC and proposed respondents BRCP and BRGS filed a response indicating that they did not oppose the motion.

On December 8, 2003, the presiding administrative law judge issued an ID (Order No. 5) granting ABC's motion. No petitions for review of the ID were filed.

This action is taken under the authority of section 337 of the Tariff Act of 1930, 19 U.S.C. 1337, and section 210.42(h) of the Commission Rules of Practice and Procedure, 19 CFR 210.42(h).

By order of the Commission.
Issued: January 7, 2004.
Marilyn R. Abbott,
Secretary.

[FR Doc. 04-675 Filed 1-12-04; 8:45 am]

BILLING CODE 7020-02-P